DEPARTMENT OF THE TREASURY

Internal Revenue Service

Open Meeting of Citizen Advocacy Panel, South Florida District

ACTION: Notice.

SUMMARY: A Public meeting of the South Florida District Citizen Advocacy Panel will be held in Naples, Florida.

DATES: The meeting will be held Friday, April 28, 2000 and Saturday, April 29, 2000.

FOR FURTHER INFORMATION CONTACT: Nancy Ferree at 1-888-912-1227 or 954-423-7974.

SUPPLEMENTARY INFORMATION: Notice is hereby given pursuant to Section 10(a)(2) of the Federal Advisory Committee Act, 5 U.S.C. App. (1988) that a Public meeting of the Citizen Advocacy Panel will be held Friday, April 28, 2000, 6 p.m. to 9 p.m. and Saturday, April 29, 2000, 9 a.m. to Noon at the YMCA, 5450 YMCA Road, Naples, FL 34109. For more information contact Nancy Ferree at 1-888-912-1227 or 954-423-7974. The public is invited to make oral comments. Individual comments will be limited to 10 minutes. If you would like to have the CAP consider a written statement, please call 1-888-912-1227 or 954-423-7974, or write Nancy Ferree, CAP Office, 7771 W. Oakland Park Blvd #225, Sunrise, FL, 33351.

The Agenda will include the following: various IRS issues.

Note: Last minute changes to the agenda are possible and could prevent effective advance notice.

Dated: March 21, 2000.
M. Cathy VanHorn,
CAP Project Manager.

[FR Doc. 00-8581 Filed 4-6-00; 8:45 am]

BILLING CODE 4830-01-U